DEPARTMENT OF HEALTH AND HUMAN SERVICES

Health Information Technology Advisory Committee 2021 Schedule of Meetings

AGENCY: Office of the National Coordinator for Health Information Technology (ONC), HHS.

ACTION: Notice of meetings.

SUMMARY: The Health Information Technology Advisory Committee (HITAC) was established in accordance with the 21st Century Cures Act and the Federal Advisory Committee Act. The HITAC, among other things, identifies priorities for standards adoption and makes recommendations to the National Coordinator for Health Information Technology (National Coordinator). The HITAC will hold public meetings throughout 2021. See list of public meetings below.

FOR FURTHER INFORMATION CONTACT: Michael Berry, Designated Federal Officer, at Michael.Berry@hhs.gov, (202) 701-0795.

SUPPLEMENTARY INFORMATION: Section 4003(e) of the 21st Century Cures Act (Pub. L. 114-255) establishes the Health Information Technology Advisory Committee (referred to as the “HITAC”). The HITAC will be governed by the provisions of the Federal Advisory Committee Act (FACA) (Pub. L. 92-463), as amended, (5 U.S.C. App.), which sets forth standards for the formation and use of federal advisory committees.

Composition

The HITAC is comprised of at least 25 members, of which:

• No fewer than 2 members are advocates for patients or consumers of health information technology;

• 3 members are appointed by the HHS Secretary

○ 1 of whom shall be appointed to represent the Department of Health and Human Services and

○ 1 of whom shall be a public health official;

• 2 members are appointed by the majority leader of the Senate;

• 2 members are appointed by the minority leader of the Senate;

• 2 members are appointed by the Speaker of the House of Representatives;

• 2 members are appointed by the minority leader of the House of Representatives; and

• Other members are appointed by the Comptroller General of the United States.

Members will serve for one-, two-, or three-year terms. All members may be reappointed for a subsequent three-year term. Each member is limited to two three-year terms, not to exceed six years of service. Members serve without pay, but will be provided per-diem and travel costs for committee services, if warranted.

Recommendations

The HITAC recommendations to the National Coordinator are publicly available at https://www.healthit.gov/topic/federal-advisory-committees/recommendations-national-coordinator-health-it.

Public Meetings

The schedule of meetings to be held in 2021 is as follows:

• January 13, 2021 from approximately 9:30 a.m. to 2:30 p.m./Eastern Time (virtual meeting)

• February 10, 2021 from approximately 9:30 a.m. to 2:30 p.m./Eastern Time (virtual meeting)

• March 10, 2021 from approximately 9:30 a.m. to 2:30 p.m./Eastern Time (virtual meeting)

• April 15, 2021 from approximately 9:30 a.m. to 2:30 p.m./Eastern Time (virtual meeting)

• May 13, 2021 from approximately 9:30 a.m. to 2:30 p.m./Eastern Time (virtual meeting)

• June 9, 2021 from approximately 9:30 a.m. to 2:30 p.m./Eastern Time (virtual meeting)

• July 14, 2021 from approximately 9:30 a.m. to 2:30 p.m./Eastern Time (virtual meeting)

• September 9, 2021 from approximately 9:30 a.m. to 2:30 p.m./Eastern Time (virtual meeting)

• October 13, 2021 from approximately 9:30 a.m. to 2:30 p.m./Eastern Time (virtual meeting)

• November 10, 2021 from approximately 9:30 a.m. to 2:30 p.m./Eastern Time (virtual meeting)

All meetings are open to the public. Additional meetings may be scheduled as needed. For web conference instructions and the most up-to-date information, please visit the HITAC calendar on the ONC website, https://www.healthit.gov/topic/federal-advisory-committees/hitac-calendar.

Contact Person for Meetings: Michael Berry, Michael.Berry@hhs.gov. A notice in the Federal Register about last minute modifications that impact a previously announced advisory committee meeting cannot always be published quickly enough to provide timely notice. Please email Michael Berry for the most current information about meetings.

Agenda: As outlined in the 21st Century Cures Act, the HITAC will develop and submit recommendations to the National Coordinator on the topics of interoperability, privacy and security, and patient access. In addition, the committee will also address any administrative matters and hear periodic reports from ONC. ONC intends to make background material available to the public no later than 24 hours prior to the meeting start time. If ONC is unable to post the background material on its website prior to the meeting, the material will be made publicly available on ONC's website after the meeting, at http://www.healthit.gov/hitac.

Procedure: Interested persons may present data, information, or views, orally or in writing, on issues pending before the committee. Written submissions may be made to the contact person prior to the meeting date. An oral public comment period will be scheduled at each meeting. Time allotted for each commenter will be limited to three minutes. If the number of speakers requesting to comment is greater than can be reasonably accommodated during the scheduled public comment period, ONC will take written comments after the meeting.

Persons attending in-person HITAC meetings are advised that the agency is not responsible for providing wireless access or access to electrical outlets.

ONC welcomes the attendance of the public at its HITAC meetings. Seating is limited at in-person meetings, and ONC will make every effort to accommodate persons with physical disabilities or special needs. If you require special accommodations due to a disability, please contact Michael Berry at least seven (7) days in advance of the meeting.

Notice of these meetings are given under the Federal Advisory Committee Act (Pub. L. No. 92-463, 5 U.S.C., App. 2).

Dated: July 27, 2021.
Michael Berry,
Designated Federal Officer, Office of the National Coordinator for Health Information Technology.

[FR Doc. 2021-18019 Filed 8-20-21; 8:45 am]

BILLING CODE 4150-45-P